DEPARTMENT OF THE INTERIOR

Bureau of Land Management

[CA-660-05-1220-DU]

South Coast Resource Management Plan Amendment for the San Diego County Border Mountains

AGENCY: Bureau of Land Management, Interior.

ACTION: Notice of intent.

SUMMARY: In compliance with Bureau of Land Management (BLM) planning regulations, Title 43 Code of Federal Regulations (CFR) part 1610.5-5, this provides notice that the BLM Palm Springs-South Coast Field Office proposes to prepare an amendment to the South Coast RMP with an associated environmental assessment (EA) or, if needed, an environmental impact statement (EIS) for BLM-administered public lands in the Border Mountains portion of the San Diego County Management Area. The plan amendment proposes to establish management guidelines for lands acquired since 1994 and designate a route of travel network. This planning activity encompasses approximately 60,000 acres of federally managed public land, including the Otay Mountain Wilderness, the Hauser Mountain Wilderness Study Area, the Kuchamaa Area of Critical Environmental Concern (ACEC), and the McAlmond Canyon/Hauser Mountain Wildlife Management Area.

The BLM invites the public to participate in this planning effort. Citizens are requested to help identify issues or concerns and to provide input on BLM's proposed planning criteria as described below under Supplementary Information.

DATES: This notice initiates the public scoping process. All comments received shall be taken into consideration prior to issuance of the Decision Record. Please submit any scoping or proposed planning criteria comments in writing, by April 20, 2005, to ensure inclusion in the draft plan/EA. Comments on issues and planning criteria may be submitted in writing to the address listed below.

Public Participation: Public meetings will be held during the plan scoping and document preparation period. In order to ensure local community participation and input, public meetings will be held in Dulzura, located within and adjacent to the planning area in southwestern San Diego County. Early and ongoing participation is encouraged and will help determine the future management of federally managed public lands within the San Diego County Management Area. All public meetings will be announced through the local news media, newsletters, and the BLM Web site (http://www.ca.blm.gov) at least 15 days prior to the event. The minutes for each meeting will be available to the public and open for 30 days to any participant who wishes to clarify the views they expressed. Upon publication of the draft Plan Amendment/EA, additional public meetings will be announced to provide the public opportunities to comment on the alternatives and submit oral comments. Written comments will be accepted and considered throughout the planning process. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

ADDRESSES: Written comments should be sent to Gail Acheson—Field Manager, Palm Springs-South Coast Field Office, Bureau of Land Management, P.O. Box 581260, North Palm Springs, CA 92258; or by fax at (760) 251-4899, or by e-mail at gchill@ca.blm.gov. Documents pertinent to this proposal, including comments with the names and addresses of respondents, will be available for public review at the Palm Springs-South Coast Field Office located at 690 W. Garnet Avenue, North Palm Springs, California, or the San Diego Project Office located at 10845 Rancho Bernardo Road, Suite 102, San Diego, California, during regular business hours of 8 a.m. to 4:30 p.m., Monday through Friday, except holidays, and may be published as part of the EA.

FOR FURTHER INFORMATION CONTACT: For further information and/or to have your name added to our mailing list contact Greg Hill at (760) 251-4840, gchill@ca.blm.gov.

SUPPLEMENTARY INFORMATION: The Border Mountains planning area encompasses the BLM public lands east of Otay Mesa, south of Interstate 8, and west of the California Desert Conservation Area boundary (T.17 S., R.1 E.; T.18 S., R.1 E.; T.17 S., R.2 E.; T.18 S., R.2 E.; T.17 S., R.3 E.; T.18 S., R.3 E.; T.17 S., R.4 E.; T.18 S., R.4 E.; T.17 S., R.5 E.; T.18 S., R.5 E.; T.17 S., R.6 E.; T.18 S., R.6 E.; T.17 S., R.7 E., and T.18 S., R.7 E.).

Since completion of the South Coast RMP in 1994, new circumstances have prompted the need for an amendment to the plan, particularly in the Border Mountains area. The following is a summary of the major issues and new circumstances BLM proposes to address in this plan amendment. An important management action required under BLM policy and land use planning requirements is designation of Off Highway Vehicle (OHV) roads and trails. Although OHV Area designations were completed in 1994, vehicle route designations were not completed. Since 1994, the BLM has also acquired several thousand acres of public lands for which OHV Area designations have not been assigned and where roads and trails have not been inventoried.

The creation of the San Diego Multiple Species Conservation Plan (MSCP) and the Otay Mountain Wilderness, along with associated land acquisitions and the changing needs and interests of the public, also necessitates a plan amendment. The MSCP, covering 85 species and intended to preserve over 170,000 acres of habitat, was signed in 1997 to meet requirements of the Endangered Species Act of 1973 (as amended), and the California Natural Communities Conservation Program (NCCP). The MSCP was signed by the City of San Diego and 13 other jurisdictions, San Diego County, the San Diego Association of Governments (SANDAG), the California Department of Fish and Game (CDFG), and the U.S. Fish and Wildlife Service (USFWS). The MSCP identified over 24,700 acres of BLM managed public land as the Otay/Kuchamaa Cooperative Management Area and as a “core area” of the MSCP. In a Memorandum of Understanding between BLM, local governments, and state and federal wildlife agencies, the BLM agreed to cooperate in the design, land acquisition, and management of the MSCP to promote biological diversity and facilitate permitting in the planning area. Since 1994 the BLM has acquired over 6,000 acres of sensitive habitat in support of the MSCP. These new federal lands and MSCP designations are not addressed by the 1994 South Coast RMP. Additional issues and concerns would be considered as identified through the public participation process.

In compliance with 43 CFR 1610.4-2, the BLM requests public input on the following proposed planning criteria, which will guide development and establish “sideboards” for preparation of the South Coast Plan Amendment. Please submit any comments in writing to the BLM address listed above no later than 30 days from the date of this Federal Register notice.

Selection of the preferred alternative will be based on the following proposed planning criteria:

• Promote long-term recovery and viability of native flora and fauna.

• Would not unduly burden Bureau resources and funding capability, including maintenance activities.

• Would consider the ability to manage and implement approved actions relative to the urban/wildland interface, the public/private interface, and border related national security concerns.

• Seek to achieve common goals set forth in the MSCP.

• Selection of the preferred alternative shall be conducted in close coordination with the local jurisdictions to promote land management consistency, effectiveness, and cost efficiency across jurisdictional boundaries.

Development of the South Coast RMP Amendment shall be conducted:

• In compliance with the National Environmental Policy Act (NEPA), the Federal Land Policy and Management Act (FLPMA), the Otay Mountain Wilderness Act (1999), and the Endangered Species Act of 1973, as amended.

• In compliance with all applicable environmental laws, regulations and policies which address such pertinent topics as BLM's multiple use mandate, valid existing rights, the Bureau's energy policy, route designation, habitat and range management, and critical elements of the human environment such as ACEC's, threatened and endangered species, cultural resources, Native American consultation, water quality, air quality, wilderness, and other topics.

• In close coordination with the local jurisdictions, State, and other Federal agencies to facilitate consistency with the MSCP.

• To facilitate consistency with relevant plans such as Recovery Plans prepared by the USFWS.

• Such that nothing in the proposed plan amendment shall have the effect of terminating any validly issued rights-of-way or customary operation, maintenance, repair, and/or replacement activities in such rights-of-ways in accordance with sections 509(a) and 701(a) of FLPMA.

An interdisciplinary approach will be used to develop the plan in order to consider the variety of resource issues and concerns identified. Disciplines involved in the planning process will include specialists with expertise in outdoor recreation, archaeology, wildlife and plants, lands and realty, hydrology, soils, geographic information systems, rangeland management, minerals and geology, sociology, and economics.

Gail Acheson,
Field Manager, Palm Springs-South Coast Field Office.

[FR Doc. 05-5457 Filed 3-18-05; 8:45 am]

BILLING CODE 4310-40-P